DEPARTMENT OF ENERGY

Federal Energy Regulatory Commission

Combined Notice of Filings #1

Take notice that the Commission received the following electric corporate filings:

Docket Numbers: EC14-94-000.

Applicants: White Pine Electric Power, L.L.C., Up Power Marketing, LLC.

Description: Application for Authorization Under Section 203 of the Federal Power Act for Disposition of Jurisdictional Facilities and Requests for Expedited Consideration and Confidential Treatment of White Pine Electric Power L.L.C., et. al.

Filed Date: 5/29/14.

Accession Number: 20140529-5280.

Comments Due: 5 p.m. ET 6/19/14.

Take notice that the Commission received the following exempt wholesale generator filings:

Docket Numbers: EG14-61-000.

Applicants: Selmer Farm, LLC.

Description: Notice of Self-Certification of Exempt Wholesale Generator Status of Selmer Farm, LLC.

Filed Date: 6/5/14.

Accession Number: 20140605-5061.

Comments Due: 5 p.m. ET 6/26/14.

Docket Numbers: EG14-62-000.

Applicants: Mulberry Farm, LLC.

Description: Notice of Self-Certification of Exempt Wholesale Generator Status of Mulberry Farm, LLC.

Filed Date: 6/5/14.

Accession Number: 20140605-5063.

Comments Due: 5 p.m. ET 6/26/14.

Take notice that the Commission received the following electric rate filings:

Docket Numbers: ER14-2053-001.

Applicants: Interstate Power and Light Company.

Description: Amendment to IPL's filing of proposed changes in book depreciation rates to be effective 7/1/2014.

Filed Date: 6/5/14.

Accession Number: 20140605-5119.

Comments Due: 5 p.m. ET 6/26/14.

Docket Numbers: ER14-2120-000.

Applicants: Southwest Power Pool, Inc.

Description: 2632 MKEC, Westar Energy and KG&E Interconnection Agreement to be effective 12/31/9998.

Filed Date: 6/5/14.

Accession Number: 20140605-5035.

Comments Due: 5 p.m. ET 6/26/14.

Docket Numbers: ER14-2121-000.

Applicants: Southwest Power Pool, Inc.

Description: Clarify Intent of Detailed Project Proposal Confidentiality Language to be effective 8/4/2014.

Filed Date: 6/5/14.

Accession Number: 20140605-5044.

Comments Due: 5 p.m. ET 6/26/14.

Docket Numbers: ER14-2122-000.

Applicants: Southwest Power Pool, Inc.

Description: 2652R1 Waverly Wind Farm LLC GIA to be effective 5/16/2014.

Filed Date: 6/5/14.

Accession Number: 20140605-5060.

Comments Due: 5 p.m. ET 6/26/14.

Docket Numbers: ER14-2123-000.

Applicants: Southwest Power Pool, Inc.

Description: Notice of Cancellation of Happy Hereford Wind Large Generator Interconnection Service Agreement of Southwest Power Pool, Inc.

Filed Date: 6/5/14.

Accession Number: 20140605-5064.

Comments Due: 5 p.m. ET 6/26/14.

Docket Numbers: ER14-2125-000.

Applicants: East Kentucky Power Cooperative, Inc.

Description: EKPC Specification of Reactive Revenue Requirement to be effective 7/1/2013.

Filed Date: 6/5/14.

Accession Number: 20140605-5070.

Comments Due: 5 p.m. ET 6/26/14.

Docket Numbers: ER14-2126-000.

Applicants: Big Savage, LLC.

Description: Tariff Revision Updating Seller Category Designation to be effective 6/6/2014.

Filed Date: 6/5/14.

Accession Number: 20140605-5073.

Comments Due: 5 p.m. ET 6/26/14.

Docket Numbers: ER14-2127-000.

Applicants: Big Sky Wind, LLC.

Description: Tariff Revision Updating Seller Category Designation to be effective 6/6/2014.

Filed Date: 6/5/14.

Accession Number: 20140605-5076

Comments Due: 5 p.m. ET 6/26/14.

Docket Numbers: ER14-2128-000.

Applicants: Public Service Company of New Mexico.

Description: Notice of Cancellation of Firm Point-to-Point Transmission Service Agreement of Public Service Company of New Mexico.

Filed Date: 6/5/14.

Accession Number: 20140605-5079.

Comments Due: 5 p.m. ET 6/26/14.

Docket Numbers: ER14-2129-000.

Applicants: Highland North LLC.

Description: Tariff Revision Updating Seller Category Designation to be effective 6/6/2014.

Filed Date: 6/5/14.

Accession Number: 20140605-5078.

Comments Due: 5 p.m. ET 6/26/14.

Docket Numbers: ER14-2130-000.

Applicants: Howard Wind LLC.

Description: Tariff Revision Updating Seller Category Designation to be effective 6/6/2014.

Filed Date: 6/5/14.

Accession Number: 20140605-5081.

Comments Due: 5 p.m. ET 6/26/14.

Docket Numbers: ER14-2131-000.

Applicants: Krayn Wind LLC.

Description: Tariff Revision Updating Seller Category Designation to be effective 6/6/2014.

Filed Date: 6/5/14.

Accession Number: 20140605-5082.

Comments Due: 5 p.m. ET 6/26/14.

Docket Numbers: ER14-2132-000.

Applicants: Patton Wind Farm, LLC.

Description: Tariff Revision Updating Seller Category Designation to be effective 6/6/2014.

Filed Date: 6/5/14.

Accession Number: 20140605-5083.

Comments Due: 5 p.m. ET 6/26/14.

Docket Numbers: ER14-2133-000.

Applicants: Mustang Hills, LLC.

Description: Tariff Revision Updating Seller Category Designation to be effective 6/6/2014.

Filed Date: 6/5/14.

Accession Number: 20140605-5084.

Comments Due: 5 p.m. ET 6/26/14.

Docket Numbers: ER14-2134-000.

Applicants: EverPower Commercial Services LLC.

Description: Tariff Revision Updating Seller Category Designation to be effective 6/6/2014.

Filed Date: 6/5/14.

Accession Number: 20140605-5113.

Comments Due: 5 p.m. ET 6/26/14.

Docket Numbers: ER14-2135-000.

Applicants: Louisville Gas and Electric Company.

Description: EKPC Service Agreement No. 4 revisions to be effective 8/5/2014.

Filed Date: 6/5/14.

Accession Number: 20140605-5120.

Comments Due: 5 p.m. ET 6/26/14.

Take notice that the Commission received the following qualifying facility filings:

Docket Numbers: QF14-571-000.

Applicants: Rentech Nitrogen Pasadena, LLC.

Description: Form 556 of Rentech Nitrogen Pasadena, LLC.

Filed Date: 6/5/14.

Accession Number: 20140605-5108.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2014.
Kimberly D. Bose,
Secretary.

[FR Doc. 2014-13731 Filed 6-11-14; 8:45 am]

BILLING CODE 6717-01-P